DEPARTMENT OF TRANSPORTATION

Federal Aviation Administration

14 CFR Part 25

[Docket No. FAA-2013-0919, Special Conditions No. 25-502-SC]

Special Conditions: Learjet Model 45 Series Airplanes; Isolation or Security Protection of the Aircraft Control Domain and the Airline Information Services Domain From the Passenger Services Domain

AGENCY: Federal Aviation Administration (FAA), DOT.

ACTION: Final special conditions; request for comments; correction.

SUMMARY: The FAA is correcting a final special conditions; request for comments document published in the Federal Register on October 31, 2013 (78 FR 65155). In that document the special conditions number was incorrect and this document now posts the correct special conditions number. Also, a typographical error occurred in the wording of one of the headings paragraphs of the document. This document now posts the correct headings wording.

DATES: This correction is effective on October 17, 2016.

FOR FURTHER INFORMATION CONTACT: Varun Khanna, FAA, Airplane and Flight Crew Interface Branch, ANM-111, Transport Airplane Directorate, Aircraft Certification Service, 1601 Lind Avenue SW., Renton, WA 98055-4056; telephone (425) 227-1298; facsimile (425) 227-1149.

SUPPLEMENTARY INFORMATION:

Background

On October 31, 2013 (78 FR 65155), the FAA published a final special conditions, request for comments document entitled “Special Conditions: Learjet Model 45 Series Airplanes; Isolation or Security Protection of the Aircraft Control Domain and the Airline Information Services Domain from the Passenger Services Domain.” The document issued special conditions pertaining to isolation or security protection of the aircraft control domain and the airline information services domain from the passenger services domain for the Learjet Model 45 series airplanes.

However, the special conditions; request for comments document was published with an incorrect special conditions number. The correct special conditions number for this document is “25-502-SC.”

Also, there was a typographical error in one of the headings paragraphs in the document. The correct heading should read “ACTION: Final special conditions, request for comments.” This document corrects that error.

Since no part of the regulatory information in the special conditions has been changed, the special conditions are not being republished.

Correction

In Final special conditions; request for comments document [FR Doc. 2013-25851, Filed 10-30-13; 8:45 a.m.] and published on October 31, 2013 (78 FR 65155), make the following corrections:

1. On page 65155, in the first column, correct the 4th headings paragraph, from “[Docket No. FAA-2013-0919, Special Conditions No. 25-13-11-SC]” to read as “[Docket No. FAA-2013-0919, Special Conditions No. 25-502-SC].”

2. On page 65155, in the first column, correct the 7th headings paragraph, from “ACTION: Final special condition; request for comments.” to read as “ACTION: Final special conditions, request for comments.”

Issued in Renton, Washington, on October 6, 2016.
Michael Kaszycki,
Assistant Manager, Transport Airplane Directorate, Aircraft Certification Service.

[FR Doc. 2016-25062 Filed 10-14-16; 8:45 am]

BILLING CODE 4910-13-P